ENVIRONMENTAL PROTECTION AGENCY

40 CFR Part 300

[EPA-HQ-SFUND-1987-0002; FRL-9972-38-Region 3]

National Oil and Hazardous Substances Pollution Contingency Plan; National Priorities List: Deletion of the C&D Recycling Superfund Site

AGENCY: Environmental Protection Agency.

ACTION: Direct final rule.

SUMMARY: The Environmental Protection Agency (EPA) Region III is publishing a direct final Notice of Deletion of the C&D Recycling Superfund Site (Site), located in Foster Township, Pennsylvania, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the Commonwealth of Pennsylvania (Commonwealth), through the Pennsylvania Department of Environmental Protection (PADEP), because EPA has determined that all appropriate response actions under CERCLA have been completed. However, this deletion does not preclude EPA from taking future actions at the Site under Superfund.

DATES: This direct final deletion is effective February 26, 2018 unless EPA receives adverse comments by January 25, 2018. If adverse comments are received, EPA will publish a timely withdrawal of the direct final deletion in the Federal Register informing the public that the deletion will not take effect.

ADDRESSES: Submit your comments, identified by Docket ID No. EPA-HQ-SFUND-1987-0002 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Gregory Voigt, Remedial Project Manager, U.S. Environmental Protection Agency, Region III, Mail Code 3HS21, 1650 Arch Street, Philadelphia, PA 19013, (215) 814-5737, email: voigt.gregory@epa.gov.

SUPPLEMENTARY INFORMATION:

Table of Contents

I. Introduction

II. NPL Deletion Criteria

III. Deletion Procedures

IV. Basis for Site Deletion

V. Deletion Action

I. Introduction

EPA Region III is publishing this direct final Notice of Deletion of the C&D Recycling Superfund Site, from the National Priorities List (NPL). The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in § 300.425(e)(3) of the NCP, sites deleted from the NPL remain eligible for Fund-financed remedial actions if future conditions warrant such actions.

Section II of this document explains the criteria for deleting sites from the NPL. Section III discusses procedures that EPA is using for this action. Section IV discusses the Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the Commonwealth prior to developing this direct final Notice of Deletion and the Notice of Intent to Delete co-published today in the “Proposed Rules” section of the Federal Register.

(2) EPA has provided the Commonwealth 30 working days for review of this direct final Notice of Deletion and the parallel Notice of Intent to Delete prior to their publication today, and the Commonwealth, through PADEP, has concurred on the deletion of the Site from the NPL.

(3) Concurrently with the publication of this direct final Notice of Deletion, a notice of the availability of the parallel Notice of Intent to Delete is being published in a major local newspaper, the Standard Speaker. The newspaper notice announces the 30-day public comment period concerning the Notice of Intent to Delete the Site from the NPL.

(4) EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The C&D Recycling Superfund Site (the Site) (CERCLIS ID PAD021449244) encompasses approximately 110 acres and is located in a rural area along Brickyard Road in Foster Township, Luzerne County, Pennsylvania. From 1963 to 1978, Lurgan Corporation operated a metal reclamation facility at the Site. In 1979, the business was conveyed to C&D Recycling, Inc. Both Lurgan Corporation and C&D Recycling, Inc.'s operations involved the reclamation of metals (i.e., copper and/or lead) from cable and/or scrap metal transported to the Site. Available documentation suggests that lead was recovered from cable and wire until the mid-1970's, after which limited burning of lead cable at the Site occurred. Typical Site operations involved mechanical removal of the outer plastic casing and burning of the inner lining, sheathing or insulation to expose the copper cable in one of five furnaces located at the Site. The copper was returned to the generator and the plastic casing was stockpiled at the Site. Site operations ceased in 1984. Currently, portions of the Site are being used as a wildlife refuge, while other portions are either undeveloped, or contain private residences.

EPA and PADEP collected analytical data in 1984 and 1985 to evaluate the relative hazards posed by the Site in the Hazard Ranking System (HRS). An HRS score of 43.92 was calculated for the Site in April 1985, based primarily upon the elevated levels of contamination in Site soils, and sediment suspended within the shallow dairy farm well existing at the Site. In September 1985, EPA proposed the Site for inclusion on the NPL (50 FR 37630). The Site was placed on the NPL on February 21, 1990 (55 FR 6154). In April 1986, PADEP requested that EPA take the lead on the Site response action.

EPA entered into an Administrative Order on Consent, Docket Number III-87-30-DC, on September 1, 1987, which was subsequently amended in June 1988, Docket Number III-87-31-DC, (collectively Consent Order) with AT&T Nassau Metals Corporation (Nassau) under which Nassau was required to: (1) Implement erosion controls and security measures to stabilize the Site; and (2) investigate the nature and extent of contamination and risks and develop alternatives to address the contamination at the Site. Nassau was the only potentially responsible party (PRP) to cooperate with EPA with respect to Site response actions. At the time of the Consent Order, Nassau was a wholly owned subsidiary of Lucent Technologies, Inc. (Lucent). Lucent subsequently merged with Alcatel SA of France on December 1, 2006 to form Alcatel-Lucent SA. For clarity, Nassau and Lucent will hereinafter collectively be referred to as the PRP.

The PRP conducted the following removal action activities under the Consent Order:

• Consolidation and covering of ash piles at the Site;

• Construction of sedimentation and erosion controls to minimize migration of contaminated soil from the Site in surface water runoff;

• Installation of fencing and seeding to prevent exposure to contaminated soil areas; and

• Removal of piles of cable casings and transport off-site for recycling.

Remedial Investigation and Feasibility Study (RI/FS)

The RI/FS was initiated at the Site in September 1987. The final RI/FS Report was completed in January 1992 and approved by EPA in March 1992. The area of contamination identified in the RI/FS Report included the following:

• Approximately 26,273 cubic yards (yds ³) of soil contaminated with lead, copper, antimony and/or other contaminants;

• Several small piles of ash (approximately 165 yds ³) resulting from the burning of material at the Site contaminated with lead, copper, and low levels of dioxins and furans;

• Approximately 1,200 linear feet of Mill Hopper Creek (the Creek) containing sediment contaminated with lead, copper, and zinc;

• A 0.5-acre pond (Mill Hopper Pond or the Pond) with contaminated sediment (approximately 1,900 yds ³);

• Abarn and milkhouse used when the property at the Site was a dairy farm;

• A main facility building including four furnaces used to burn cable;

• An underground storm water sewer system, which contained approximately 24 yds ³ of contaminated sediment; and

• A small isolated furnace once used to burn cable.

Selected Remedy

EPA issued the Record of Decision (ROD) for the Site on September 30, 1992. The Remedial Action Objectives (RAOs) specified in the ROD consisted of:

1. Protection of human health and the environment;

2. Source control and prevention of migration of contamination from the Site via wind and surface water transport;

3. Source control of contaminants in soil such that leaching of contamination to groundwater will not occur in the future;

4. Source control of soil, sediment, and ash with lead concentrations greater than 500 parts per million (ppm);

5. Decontamination of Site buildings; and

6. Prevention to exposure to contaminants.

The remedy selected in the ROD (Selected Remedy) addressed contaminated soil, ash, sediment, buildings, and structures and consisted of the following components:

1. Confirmation, e.g., via sampling, of the areal limits of soil and sediment with lead contamination above 500 ppm (including soil beneath buildings and concrete slabs constructed after 1963 as well as pavement and sediment in Mill Hopper Creek and wetlands);

2. Performance of a Phase 1B archeological survey in areas possessing high or moderate archeological sensitivity potentially impacted by the Remedial Action;

3. Removal and off-Site disposal and/or recycling of casing and wire;

4. Excavation of all soil with lead contamination above 500 ppm resulting from Site operations (excluding soil beneath buildings and concrete slabs constructed after 1963, or pavement which shall otherwise be maintained to prevent migration of contamination from the Site);

5. Excavation of sediment from the banks of Mill Hopper Pond with lead levels greater than 500 ppm and excavation of the top two feet of sediment (or an amount sufficient to secure a new substrate) from the pond bottom to ensure that pond water quality is not impacted;

6. Removal of sediment within Mill Hopper Creek contaminated with lead above 500 ppm;

7. Removal and sampling of all sediment located within the storm water sewer system located at the Site and evaluation of the system's integrity (including drainage ditches) to determine the potential for releases of hazardous substances from the Site into the soil and ground water and any necessary response actions;

8. Excavation of all ash located at the Site;

9. Post excavation/removal sampling to confirm that ash, soil and sediment cleanup levels are met;

10. On-Site stabilization of the contaminated soil and sediment, excavated and removed as described above, to remove any characteristic of hazardous waste;

11. On-Site stabilization of the contaminated ash, excavated as described above, to remove any characteristic of hazardous waste;

12. Off-Site disposal of stabilized soil, sediment, and ash into a non-hazardous (RCRA Subtitle D) waste disposal facility;

13. Decontamination of Site buildings with lead levels in walls and floors above 500 ppm, including dismantling of non-structural components and removal of equipment and debris which may inhibit decontamination to required levels, or demolition of buildings that cannot be cleaned to 500 ppm lead;

14. Dismantling of the old furnace and other structures, as necessary, which inhibit soil or sediment remediation and which shall not be maintained, as necessary, to prevent migration of contaminants from the Site;

15. Off-Site disposal of material generated from dismantling of Site buildings into a non-hazardous (Subtitle D) waste disposal facility or decontamination and recycling of dismantled material;

16. Performance of biota toxicity tests on remaining soil and sediment to ensure that remediated soil (i.e., soil with lead levels no higher than 500 ppm) does not pose a threat to the environment (procedures to be determined during Remedial Design);

17. Site grading, revegetation, and related work, to ensure that Site topography and drainage ways adequately convey water from the Site, and that soil excavation does not result in low lying areas;

18. Air monitoring during on-Site activities, and implementation of dust control or other necessary abatement actions to prevent migration of contaminants to the surrounding community during the Remedial Action;

19. Abandoning wells which serve no useful long-term purpose;

20. Periodic monitoring of ground water and surface water; and

21. If the soil beneath pavement, or soil beneath buildings and concrete slabs constructed after 1963, contains concentrations of lead greater than 500 ppm and these structures are not demolished, then institutional controls, (e.g., deed restrictions) will be implemented to prevent residential use potentially affecting the protectiveness of the Selected Remedy, and to ensure that Site contaminants which may remain beneath buildings and pavement are properly identified.

Consistent with the Site RAOs, the Selected Remedy included decontamination and/or demolition of contaminated buildings and structures; stabilization of contaminated soil, ash, and sediment with lead levels greater than 500 ppm, as needed; and disposal of the stabilized and/or decontaminated material into an off-Site landfill. As stated in the ROD, EPA determined that the selected soil cleanup level of 500 ppm lead (i.e., no confirmatory sample collected shall exceed 500 ppm) is protective of human health and would not impact the environment. The cleanup level of 500 ppm ensures that the average soil lead level remaining on any two-acre plot is less than approximately 235 ppm, including theoretical residential plots located on the Site. Thus, EPA determined that residual soil lead levels remaining at the Site are protective.

Response Actions

All Remedial Design (RD), Remedial Action (RA) and Operation and Maintenance (O&M) activities for the Site were conducted in accordance with a Unilateral Administrative Order (UAO) which was issued to the PRP on August 9, 1994 (EPA Docket No. III-94-18-DC). The UAO was subsequently converted to a Consent Decree that was signed and lodged with the District Court for the Western District of Pennsylvania on July 22, 1998 (Consent Decree) (Civil Action No. 3:96-CV-562).

The RD was performed from October 1996 through February 1997 and approved by EPA on May 8, 1998. During the RD phase, Site preparation work involved the removal of various types of debris and cable casings from the Site, as well as demolition and off-Site disposal of the old furnace.

Construction of the RA was conducted between February 1998 and August 1999. EPA approved the September 27, 2000 Remedial Action Completion Report (RACR) documenting completion of the RA. Biotoxicity sampling of the Pond and Creek and well abandonment, as selected in the ROD, were completed in 2003 and 2002, respectively. In June 2016, EPA approved the Work Completion Certification and Report (WCCR) documenting completion of these remaining components of the Selected Remedy.

Performance Standards

The 2000 RACR documented that the RA had attained the following Performance Standards as specified in the ROD:

1. The Phase IB Archeological Survey shall comply with Guidelines on Archaeology and Historic Preservation, 48 FR.44716-42 (September 29, 1983), 36 CFR parts 65 and 800.

2. Site activity shall not cause exceedance of Pennsylvania Water Quality Standards in Mill Hopper Creek, 25 PA Code §§ 93.3 through 93.8, or exceedance of background water quality in Mill Hopper Creek should background quality exceed Pennsylvania Water Quality Standards, 25 PA Code § 93.5 and water quality criteria for toxic substances of 25 PA Code Chapter 16. However, compliance with Chapter 16 regulations will consider the ambient background water quality of Mill Hopper Creek and Mill Hopper Pond.

3. The stabilization process and/or earth moving shall not generate dust exceeding National Ambient Air Quality Standards within 100 feet of the Area of Contamination [Clean Air Act section 109, National Primary and Secondary Ambient Air Quality Standards for lead, 40 CFR 50.12, and particulate matter, 40 CFR 50.6 and 40 CFR part 52, subpart NN] [Pennsylvania's Air Pollution Control Act, 25 PA Code §§ 123.1 et. seq, and 131.1 et. seq.]. Dust suppression methods, e.g., wind screens, water spray, or chemical agents, shall be utilized to minimize dust. Air monitoring shall be performed in accordance with 40 CFR part 50, Appendix G [25 PA Code §§ 123.1 et. seq. and 131.1 et. seq.].

4. Excavation and consolidation of the soil, sediment and ash shall comply with the Pennsylvania Erosion Control Regulations, 25 PA Code §§ 102.1 et. seq., Pennsylvania's Air Pollution Control Act, 25 PA Code §§ 123.1 et. seq. and 131.1 et. seq.

5. Diversion of Mill Hopper Creek during implementation of Selected Remedy shall comply with Pennsylvania Dam Safety and Waterway Management Regulations, 25 PA Code § 105.1 et. Seq.

6. Disposal of hazardous waste debris generated from the decontamination, dismantling and/or demolition of Site buildings, the old furnace and any other structures, shall comply with the Land Disposal Restriction requirements of 40 CFR part 268.

7. The stabilized soil, sediment, and ash shall be analyzed using the Toxic Characteristic Leaching Procedure. No sample of leachate from tested stabilized material shall exceed the levels specified in Table 20, below.

8. Cleanup levels for contaminants of concern in soil and sediment (Table 20) shall not be exceeded in any soil or sediment sample, excluding areas not impacted by the Site, remaining after Site remediation.

Table 20—Cleanup Levels for Contaminants of Potential Concern Contributing Excess Cancer Risk Greater Than 1 x 10-6 or Hazard Index Greater Than 1
Media | Contaminant | Clean-Up Level
Soil | Lead | 500 ppm.
| Copper | 3300 ppm.
| Antimony | 35 ppm.
| PAHs | 1 ppm.
| PCBs | 2 ppm.
Sediment | Lead | 500 ppm.
| Copper | 2900 ppm.
| Antimony | 35 ppm.
| PAHs | 1 ppm.
Stabilized Ash, Sediment and Soil (Extract) | Arsenic | 5 mg/L.
| Barium | 100 mg/L.
| Cadmium | 1 mg/L.
| Chromium | 5 mg/L.
| Lead | 5 mg/L.
| Mercury | 0.2 mg/L.
| Selenium | 1 mg/L.
Building Surfaces | Lead | 50 ug/m3, or 500 ppm.
| Copper | 1000 ug/m3, or 3300 ppm.
| Antimony | 500 ug/m3, or 35 ppm.

Post-RA sampling data demonstrated that the Selected Remedy achieved the RAOs selected in the ROD. Protection of human health and the environment (RAO #1) and prevention to exposure to contaminants (RAO #6) were achieved by ensuring that all performance standards selected in the ROD were met, as explained in Section 5.0 of the RACR. Source control RAOs (RAO #2, #3, and #4) were achieved by stabilizing contaminated soil, ash, and sediment with lead levels greater than 500 ppm, as needed; and by disposing the stabilized material into an off-Site landfill, as explained in Sections 3.4 and 3.5 of the RACR. Decontamination of on-Site buildings (RAO #5) was achieved by ensuring that all on-Site building surfaces were free from Site contaminants, as explained in Section 3.3 of RACR.

During the RA, Site soils and sediments with identified lead concentrations of greater than the Site clean-up level of 500 ppm were excavated, stabilized as appropriate, and transported off-site for disposal at an approved facility. Soil was excavated to depths of up to four feet resulting in the removal of approximately 43,800 cubic yards of material. A total of 267 post-excavation soil samples were collected, and confirmed that all identified contamination was removed from the Site, and that the cleanup level for lead of 500 ppm selected in the ROD was achieved.

As part of the RI/FS at the Site, a monitoring well network consisting of 17 wells was completed. The wells were sampled multiple times during the course of the RI/FS. In the ROD, EPA determined that the data obtained during performance of the RI/FS demonstrated that groundwater had not been impacted by Site activities. The ROD required additional monitoring of Site groundwater for lead to evaluate any possible impacts caused by the RA. One pre-construction and two post-construction groundwater sampling events were conducted. Four on-site shallow wells were sampled for lead to monitor groundwater quality. The groundwater sampling results confirmed that Site construction activities during the RA did not impact the groundwater underlying the Site. Since all of the groundwater monitoring activities selected in the ROD were completed, the remaining monitoring wells located on-Site were subsequently abandoned on August 26 through August 29, 2002.

The ROD also selected the “performance of biota toxicity tests on remaining soil/sediment to ensure that remediated soil (i.e., soil with lead levels no higher than 500 ppm) does not pose a threat to the environment”. The biotoxicity testing procedures employed at the Site in order to meet the above-described ROD requirement were established in the Biotoxicity Testing Plan (BTP).

The baseline biotoxicity sampling/evaluation was conducted in May 1998 prior to the start of the RA. This testing was conducted for the purpose of establishing the baseline biotoxicity of Site sediments that were known to contain lead concentrations that exceeded the Site cleanup goal of 500 ppm. The evaluation was conducted on samples collected at the Site and at a nearby off-site reference location (a pond approximately eight miles from the Site).

The biotoxic effect threshold of Site sediments was established to be 842 ppm lead based on the results of the baseline biotoxicity evaluation. Three additional biotoxicity sampling events were conducted after the August 13, 1999 RA completion date in accordance with the BTP. The Year 1 event occurred on August 30, 2000, the Year 2 event occurred on September 20, 2002 and the Year 3 event occurred on October 29, 2003.

During these three post-RA sampling events, three out of a total of 52 sediment sample results from the Pond and Creek were found to contain lead in excess of the 500 ppm Site cleanup level. In each instance, when an elevated sample result for lead was identified, the PRP performed additional sediment sampling to delineate the extent of lead sediment concentrations in excess of 500 ppm and then implemented a focused excavation program to remove these sediments from the Site. A total of eight sampling rounds associated with the three biotoxicity sampling events were conducted after completion of the RA.

All lead analytical results of sediments remaining in place after the focused removal of sediments from the Pond and Creek were less than the Site lead cleanup goal of 500 ppm. Therefore, subsequent bioassay testing of the Year 1, 2 and 3 samples was not performed.

Finally, sampling conducted by the PRP in 1989 as part of the RI/FS showed the isolated presence of low levels of dioxin in the ash piles stored on-Site. Specifically, two dioxin samples were collected at the Site in 1989 from two separate ash piles (designated ASH-B and ASH-F) which were subsequently excavated. The piles were analyzed for 2,3,7,8-tetrachlorodibenzo-p-dioxin (TCDD), 2,3,7,8,-tetrachlorodibenzofuran (TCDF) and specific 2,3,7,8-dioxin congeners. Both of the samples contained low levels of chlorinated dioxins/furans. After issuance of the 2012 preliminary remediation goals for dioxin in soil, by letter dated July 24, 2014, EPA required the PRP to collect additional soil samples at the Site to confirm that the Selected Remedy was protective of human health and the environment. By letter dated October 13, 2015, EPA informed the PRP that the sampling results indicated that dioxin did not exceed residential or commercial screening levels in any of the samples collected from native soil at the Site.

EPA subsequently issued a Final Close Out Report (FCOR) for the Site dated October 4, 2016. The FCOR summarized all of the remedial activities conducted at the Site, and concluded that EPA has successfully completed all response actions for the Site in accordance with Close Out Procedures for National Priorities List Sites (OSWER Directive 9320.2-09A-P).

Operation and Maintenance

An O&M Plan dated April 29, 1998 was approved by EPA as part of the RD. The O&M Plan identifies the O&M activities that would be performed at the Site after the RA was completed. The O&M activities were intended to address: (1) Erosion and sedimentation control measures until sufficient vegetative cover had re-established itself; (2) post-remedy ground water sampling; and (3) the sampling/inspection requirements specified in the BTP.

RA activities were completed on August 13, 1999. Lucent conducted inspections of the Site for the first year after completion of the Site remediation activities. These inspections were conducted on a monthly basis and after known significant storm events (e.g., rain events over one inch), as outlined in the O&M Plan. Inspections were not performed during winter months when the ground was frozen or snow covered. After the first year of monthly inspections, quarterly inspections of the Site were conducted for the following four years as required by the O&M Plan. During each Site inspection, the vegetative cover, drainage channels and swales, and remediated Creek downstream of the Pond were inspected to verify that they were in good condition and functioning properly.

In accordance with the O&M Plan, the revegetated Site was to be left in its natural state and not mowed and no future O&M is required.

Institutional Controls

The ROD selected ICs if soils containing concentrations of lead over 500 ppm remain beneath the pavement, or buildings and concrete slabs constructed on-Site after 1963. Since all Site soils with lead concentrations in excess of 500 ppm were removed from the Site during implementation of the Selected Remedy, no ICs are required at the Site. However, as an added precaution, in March 1999, the then-current owner of the original 46-acre C&D property which contains the main C&D Recycling building and several abandoned farm structures, known as Tax Parcel 11, filed a deed restriction in the land records for that parcel. This deed restriction limits access to the Site, and prevents the Tax Parcel 11 from being used for residential, commercial, agricultural and/or recreational purposes.

In May 2002, Tax Parcel 11 was purchased at a tax sale, and title to the property was redeeded under a corporation named “Green Meadows Conservancy, Inc.” on July 10, 2006. Tax Parcel 11 property is now classified as a wildlife preserve and there are no plans for its redevelopment.

Based on the above information, EPA has determined that there are no hazardous substances present on-Site above levels allowing for unlimited use and unrestricted exposure now that the Selected Remedy is complete. The Site is, therefore, protective of human health and the environment. No Five-Year Reviews have been performed and they are not required pursuant to CERCLA section 121(c).

Community Involvement

EPA community relations staff conducted an active campaign to ensure that the residents were well informed about activities at the Site. Community relations activities included the following:

• Public Meetings: May 1997.

• Township Supervisor Meetings: April 1997 and May 1998.

• Fact Sheets: April 1998, December 1998, and June 1999.

Additionally, during the RA, EPA's Remedial Project Manager (RPM) met with Foster Township representatives on a weekly basis to provide an update on the work accomplished and the upcoming scheduled work.

In accordance with the requirements of 40 CFR 300.425(e)(4), EPA's community involvement activities associated with this deletion will consist of placing the deletion docket in the local Site information repository and placing a public notice (of EPA's intent to delete the Site from the NPL) in the Standard Speaker, a local newspaper of general circulation.

Determination That the Site Meets the Criteria for Deletion in the NCP

Construction of the Selected Remedy at the Site has been completed and O&M was completed in accordance with the EPA-approved O&M Plan. All RAOs, Performance Standards, and cleanup goals established in the ROD have been achieved and the Selected Remedy is protective of human health and the environment. No further Superfund response is necessary to protect human health and the environment.

The Site Deletion procedures specified in 40 CFR 300.425(e) have been followed for the deletion of the Site.

V. Deletion Action

EPA, with concurrence of the Commonwealth through PADEP, has determined that all appropriate response actions under CERCLA, have been completed. Therefore, EPA is deleting the Site from the NPL.

Because EPA considers this action to be noncontroversial and routine, EPA is taking it without prior publication. This action will be effective February 26, 2018 unless EPA receives adverse comments by January 25, 2018. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: December 1, 2017.
Cosmo Servidio,
Regional Administrator, EPA Region III.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing “PA”, “C & D Recycling”, “Foster Township”.

[FR Doc. 2017-27801 Filed 12-22-17; 8:45 am]

BILLING CODE 6560-50-P